DEPARTMENT OF ENERGY

Federal Energy Regulatory Commission

[Project No. 14797-001]

California Department of Water Resources; Notice of Waiver Period for Water Quality Certification Application

On August 19, 2021, California Department of Water Resources submitted to the Federal Energy Regulatory Commission (Commission) a copy of their application for a Clean Water Act section 401(a)(1) water quality certification filed with the California State Water Resources Control Board (California Water Board), in conjunction with the above captioned project. Pursuant to 40 CFR 121.6, we hereby notify the California Water Board of the following:

Date of Receipt of the Certification Request: August 19, 2021.

Reasonable Period of Time to Act on the Certification Request: One year.

Date Waiver Occurs for Failure to Act: August 19, 2022.

If the California Water Board fails or refuses to act on the water quality certification request by the above waiver date, then the agency's certifying authority is deemed waived pursuant to section 401(a)(1) of the Clean Water Act, 33 U.S.C. 1341(a)(1).

Dated: August 24, 2021.
Kimberly D. Bose,
Secretary.

[FR Doc. 2021-18619 Filed 8-27-21; 8:45 am]

BILLING CODE 6717-01-P